DEPARTMENT OF THE INTERIOR

Bureau of Indians Affairs

[AAK4004200/A0R5C4040.999900/134A2100DD]

Proclaiming Certain Lands, White Horse Golf Course Property, as an Addition to the Port Madison Indian Reservation for the Suquamish Tribe

AGENCY: Bureau of Indian Affairs, Interior.

ACTION: Notice of Reservation Proclamation.

SUMMARY: This notice informs the public that the Assistant Secretary—Indian Affairs proclaimed approximately 283.17 acres, more or less, as an addition to the Port Madison Reservation for the Suquamish Indian Tribe.

FOR FURTHER INFORMATION CONTACT: Matthew C. Kirkland, Bureau of Indian Affairs, Division of Real Estate Services, MS-4642-MIB, 1849 C Street NW., Washington, DC 20240, telephone (202) 208-3615.

SUPPLEMENTARY INFORMATION: This Notice is published in the exercise of authority delegated by the Secretary of the Interior to the Assistant Secretary—Indian Affairs by part 209 of the Departmental Manual.

A proclamation was issued according to the Act of June 18, 1934 (48 Stat. 986; 25 U.S.C. 467) for the land described below. The land was proclaimed to be an addition to the Port Madison Reservation of the Suquamish Indian Tribe of Washington, for the exclusive use of Indians entitled by enrollment or tribal membership to reside at such reservation.

Willamette Meridian

Kitsap County, Washington

Legal description of the trust property including +/− 283.17 acres is:

Vacated tracts E, F, G, I and J and portions of vacated Tracts D, H and P of the Plat of White Horse, recorded under Auditor's file Number 200502020210 in Volume 31 of Plats, Page 139 through 157, inclusive, records of Kitsap County, Washington; being within Section 3 of Township 26 North, Range 2 East of the Willamette Meridian in Kitsap County, Washington as vacated by Final Order of Vacation recorded under Auditor's File Number 201111070157, records of said County, totaling 283.17 acres, more or less.

Situate in the County of Kitsap, State of Washington.

The above-described lands contain a total of 283.17 acres, more or less, which is subject to all valid rights, reservations, rights-of-way, and easements of record.

This proclamation does not affect title to the land described above nor does it affect any valid existing easements for public roads and highways, for public utilities and for railroads and pipelines and any other rights-of-way or reservations of record.

Dated: February 21, 2014.
Kevin K. Washburn,
Assistant Secretary—Indian Affairs.

[FR Doc. 2014-04439 Filed 2-27-14; 8:45 am]

BILLING CODE 4310-W7-P